DEPARTMENT OF TRANSPORTATION

National Highway Traffic Safety Administration

49 CFR Chapter V

[Docket No. NHTSA-2016-0090], Notice 2

Federal Automated Vehicles Policy

AGENCY: National Highway Traffic Safety Administration (NHTSA), Department of Transportation (DOT).

ACTION: Notice of public meeting.

SUMMARY: NHTSA is announcing a public meeting to seek input on the recently released Federal Automated Vehicles Policy (the Policy). The Policy is guidance that seeks to speed the delivery of an initial regulatory framework for highly automated vehicles (HAVs) as well as encourage conformance with best practices to guide manufacturers and other entities in the safe design, development, testing, and deployment of HAVs.

The public meeting will be an open listening session to provide as great an opportunity for comment as possible. All comments will be oral and any presentations should be submitted to the docket for inclusion. Additionally, all interested parties, either not in attendance or who are unable to speak, are invited to share any views or information they would like considered through the docket as well.

DATES: NHTSA will hold the public meeting on November 10, 2016, in Washington, DC. The meeting will start at 9 a.m. and continue until 4 p.m. local time. Check-in (through security) will begin at 8 a.m. Attendees should arrive early enough to enable them to go through security by 9 a.m.

ADDRESSES: The meeting will be held at the United States General Services Administration, Regional Office Building located at 301 7th Street (7th & D Streets) SW., Washington, DC 20407. This facility is accessible to individuals with disabilities.

Written Comments: Written statements and supporting information submitted during the comment period will be considered with the same weight as oral comments presented at the public meeting. Please submit all written comments no later than November 22, 2016, by any of the following methods:

• Federal Rulemaking Portal: Go to http://www.regulations.gov. Follow the online instructions for submitting comments. To submit comments on the Federal Automated Vehicles Policy, please use docket NHTSA-2016-0090.

NHTSA issued a separate notice and created a separate docket for the Paperwork Reduction Act information collection request related to the Federal Automated Vehicles Policy (81 FR 65709). In that notice, NHTSA estimated the potential burden associated with submitting information to NHTSA as recommended by the Federal Automated Vehicles Policy. To submit comments on the information collection request related to the Federal Automated Vehicles Policy, please use docket NHTSA-2016-0091.

• Mail: Docket Management Facility: U.S. Department of Transportation, 1200 New Jersey Avenue SE., West Building Ground Floor, Room W12-140, Washington, DC 20590-0001.

• Hand Delivery or Courier: 1200 New Jersey Avenue SE., West Building Ground Floor, Room W12-140, Washington, DC 20590-0001, between 9 a.m. and 5 p.m. ET, Monday through Friday, except Federal Holidays.

• Fax: 202-366-1767.

Instructions: All submissions must include the agency name and associated docket number. Note that all comments received will be posted without change to http://www.regulations.gov, including any personal information provided. Please see the Privacy Act discussion below.

Docket: For access to the docket go to http://www.regulations.gov at any time or to 1200 New Jersey Avenue SE., West Building, Ground Floor, Room W12-140, Washington, DC 20590, between 9 a.m. and 5 p.m., Monday through Friday, except Federal Holidays. Telephone: 202-366-9826.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), you may visit http://www.dot.gov/privacy.html.

Confidential Business Information: If you wish to submit any information under a claim of confidentiality, you should submit three copies of your complete submission, including the information you claim to be confidential business information to the Chief Counsel, NHTSA, at the address given under FOR FURTHER INFORMATION CONTACT. In addition, you should submit two copies, from which you have deleted the claimed confidential business information, to Docket Management at the address given above. When you send a comment containing information claimed to be confidential business information, you should submit a cover letter setting forth the information specified in our confidential business information regulation (49 CFR part 512).

FOR FURTHER INFORMATION CONTACT: If you have questions about the public meeting, please contact Ms. Yvonne Clarke, Program Assistant, Office of Vehicle Safety Research at (202) 366-1845 or by email at av_info_nhtsa@dot.gov.

SUPPLEMENTARY INFORMATION:

Background

On September 20, 2016, DOT released the Federal Automated Vehicles Policy. The Policy is intended to ensure automated vehicle technologies are safely introduced and achieve their full safety potential by removing potential roadblocks to the integration of innovative automotive technology. The full Policy can be found at www.nhtsa.gov/AV.

On September 23, 2016, DOT published a notice requesting written public comment regarding the contents of the Policy.¹ Those comments are due November 22, 2016. Concurrent with the notice requesting public comment, DOT published a separate notice opening a separate docket for commenters to respond to the proposed information collection request for the Policy (81 FR 65709).

¹ 81 FR 65703 (September 23, 2016), NHTSA-2016-0090.

Meeting

NHTSA has laid out four sections within the Policy that focus on priority areas related to HAVs. During the morning session of the meeting, the Agency will seek public input on those four sections to include: Vehicle Performance Guidance for Automated Vehicles, Model State Policy, NHTSA's Current Regulatory Tools, and Modern Regulatory Tools. The focus will be to gather feedback regarding how manufacturers and other entities have understood these four areas of interest, if there are challenges foreseen, suggestions for clarification or more thorough explanation, recommended improvements, or other input.

During the afternoon session of the meeting, the Agency will seek specific input from the public on the safety assessment letter. The intent of the policy is for manufacturers and other entities involved in the design, development, validation, testing and deployment of automated vehicles to voluntarily submit to the Agency a letter describing how they are meeting the 15 safety areas in the vehicle performance guidance outlined in the policy.

NHTSA is seeking input to refine the overall structure and content of the safety assessment letter from the parties responsible for the preparation and submission of these letters. This input will aid the Agency in developing a template for entities to use as well as further refine our anticipated internal processes necessary to review submissions in a timely fashion.

The meeting announced by this notice is being held during the open comment period for the Policy to provide an opportunity for individuals to provide oral feedback regarding the four sections of the Policy.

Registration is necessary for all attendees. Attendees, including those who do not plan to make any oral remarks at the meeting, should register at https://docs.google.com/forms/d/12_tCd_PEWBiPCLnp1KmsSXV9vsoV6iAm1o_n736lbds/viewform?edit_requested=true by November 8, 2016. Please provide your name, email address, and affiliation, indicate if you wish to offer oral technical remarks, and please indicate whether you require accommodations such as a sign language interpreter. Space is limited, so advanced registration is highly encouraged.

Although attendees will be given the opportunity to offer technical remarks, there will not be time for attendees to make audio-visual presentations during the meeting. Additionally, NHTSA may not be able to accommodate all attendees who wish to make oral remarks. All interested parties, not in attendance, unable to comment verbally, or otherwise, are invited to share any views or information they would like considered in the docket.

NHTSA will conduct the public meeting informally, and technical rules of evidence will not apply. We will arrange for a written transcript of the meeting. You may make arrangements for copies of the transcripts directly with the court reporter. The transcript will also be posted in the docket when it becomes available.

Should it be necessary to cancel the meeting due to inclement weather or other emergency, NHTSA will take all available measures to notify registered participants.

Draft Meeting Agenda

8:00-9:00—Arrival/Check-In

9:00-12:00—Public Meeting Session on the Federal Automated Vehicles Policy Document

12:00—Lunch (on your own)/Arrival/Check-In

13:00-15:30—Invited Technical Comments/Other Oral Remarks on Safety Assessment Letter

15:30-16:00—Open Microphone

16:00—Adjourn

Morning Session Meeting Topics

The morning session of the meeting will provide an opportunity for individuals to express feedback regarding the four sections of the Policy. NHTSA has issued the Policy to ensure automated vehicle technologies are safely introduced and achieve their full safety potential by removing potential roadblocks to the integration of innovative automotive technology.

• Vehicle Performance Guidance for Automated Vehicles: This section, which is addressed to manufacturers, developers, and other organizations, outlines a 15 point “Safety Assessment” for the safe design, development, validation, testing, and deployment of automated vehicles.

• Model State Policy: This section describes the separate and distinct responsibilities of the Federal and State governments for regulation of HAVs, and recommends policy areas for States to consider with a goal of generating a consistent national framework for the validation, testing, and deployment of highly automated vehicles.

• Current Regulatory Tools: This section outlines DOT's current regulatory tools that can be used in a more timely and effective fashion to accelerate the safe development of HAVs, such as interpreting current rules to allow for greater flexibility in design and providing limited exemptions to allow manufacturers to gain experience with nontraditional vehicle designs.

• Modern Regulatory Tools: This section identifies potential new regulatory tools and statutory authorities that may aid the safe and efficient deployment of new lifesaving technologies.

Afternoon Session Meeting Topics

The afternoon session of the meeting provides an opportunity for individuals to specifically comment on the Safety Assessment Letter to NHTSA.² As an example, the Agency is interested in how to structure a letter such that it contains enough information to enable the public and the Agency to understand how the submitter of the letter is meeting the 15 safety areas, but avoids revealing confidential business information or inadvertently creating a competitive disadvantage to anyone submitting the letter. Concurrent with the Policy, DOT also opened a docket for commenters to respond to this proposed information collection request for the Policy (81 FR 65709).

² Ibid., 15.

Specifically, commenters are asked to discuss the following topics at the meeting:

• Content and Structure

The Agency seeks comment on how much and what types of information should be included in the letter to enable the public and the Agency to understand the submitter's process, plan, approach, or other areas. In the interest of achieving a reasonable degree of consistency in the letters it receives, the Agency also seeks comments on how the letters should be formatted. Finally, what is the expected length of a well formatted letter?

• Identification of Responsible Manufacturers and Other Entities

The Agency seeks comment on the entities that should be responsible for the submission of these letters. Commenters should also consider who should submit in these letters in the event that multiple parties collaborate together.

• Transparency

The Agency seeks to be as transparent as possible with these letters, and expects to make them public to increase public understanding and build consumer confidence. If commenters believe that certain portions of the letter should not be made available to the general public, please identify those portions and explain the reasons for that belief and how withholding those portions might affect public understanding and confidence. Commenters should discuss what format the agency should use to present the public display of the information.

• Agency Response Processes

The Agency will respond to persons who comment on safety assessment letters received by the Agency. Commenters should focus on what form this response should take, as well as what information the agency should include. Commenters should also discuss their views on making these responses available to the public.

• Timing

The Agency seeks comments on the timing proposed in the Policy document for the submission of the letters. Commenters should discuss what types of changes or updates are important enough to trigger the need to submit a new letter. In the event that changes or updates to automated features make it necessary to submit a new letter, commenters should discuss what time frame would be appropriate for re-submittal of the assessment letters.

Nathaniel Beuse,
Associate Administrator for Vehicle Safety Research.

[FR Doc. 2016-26561 Filed 11-4-16; 8:45 am]

BILLING CODE 4910-59-P